DEPARTMENT OF AGRICULTURE

Forest Service

Rental Fee Waivers for Noncommercial, Educational Broadcasters and State and Local Entities Holding Leases or Permits for Communications Uses on National Forest System Lands

AGENCY: Forest Service, USDA.

ACTION: Notice of issuance of agency interim directive.

SUMMARY: The Forest Service is issuing an interim directive (ID) to provide internal guidance to its employees in implementing a rental fee waiver for noncommercial, educational sectarian broadcasters that hold a Forest Service lease or special use permit to occupy National Forest System lands for telecommunications purposes. Based on an analysis of applicable case law, the Forest Service is modifying its fee waiver policy to exempt from a rental fee those sectarian broadcasters that have a Forest Service lease or special use permit, are licensed by the Federal Communications Commission (FCC) as a noncommercial, educational broadcaster, and have nonprofit status under section 501(c)(3) of the Internal Revenue Code. Additionally, the ID clarifies that the Forest Service rental fee calculation for facility owners and facility managers does not include sectarian broadcasters in their facilities that can verify their nonprofit status under section 501(c)(3) of the Internal Revenue Code and their classification by the FCC as noncommercial, educational sectarian broadcasters. The Forest Service is also clarifying its current fee waiver policy to provide that States and local governmental entities are not to be granted a fee waiver when their authorized use on the National Forest is commercial in nature or is intended to generate a profit. The interim directive is issued to the Forest Service Special Uses Handbook, FSH 2709.11, Chapter 30, Fee Determination, as ID number 2709.11-2002-2.

DATES: The interim directive is effective July 15, 2002.

ADDRESSES: The interim directive is available electronically from the Forest Service via the World Wide Web/Internet at http://www.fs.fed.us/im/directives. Single paper copies of the interim directive also are available by contacting Mark Scheibel, Forest Service, USDA, Lands Staff (Mail Stop 1124), 1400 Independence Avenue, SW., Washington, DC 20250-1124 (telephone 202-205-1264).

FOR FURTHER INFORMATION CONTACT: Mark Scheibel, Lands Staff (202-205-1264).

Dated: June 19, 2002.
Dale N. Bosworth,
Chief.

[FR Doc. 02-17607 Filed 7-12-02; 8:45 am]

BILLING CODE 3410-11-P